DEPARTMENT OF TRANSPORTATION

Coast Guard

33 CFR Part 100

[CGD 05-00-009]

RIN 2115-AE46

Special Local Regulations for Marine Events; Severn River, College Creek, and Weems Creek, Annapolis, MD

AGENCY: Coast Guard, DOT.

ACTION: Notice of implementation.

SUMMARY: The Coast Guard is implementing the special local regulations at 33 CFR 100.518 for the Navy Crew Rowing Race, a marine event to be held April 29 and May 26, 2000 on the waters of the Severn River at Annapolis, Maryland. These special local regulations are necessary to control vessel traffic due to the confined nature of the waterway and expected vessel congestion during the event. The effect will be to restrict general navigation in the regulated area for the safety of spectators and vessels transiting the event area.

DATES: 33 CFR 100.518 is effective from 6 a.m. to 10 a.m. on April 29 and from 6 a.m. to 10 a.m. on May 26, 2000.

FOR FURTHER INFORMATION CONTACT: Chief Warrant Officer R. L. Houck, Marine Events Coordinator, Commander, Coast Guard Activities Baltimore, 2401 Hawkins Point Road, Baltimore, MD 21226-1971, (410) 576-2674.

SUPPLEMENTARY INFORMATION: The U.S. Naval Academy will sponsor the Navy Crew Rowing Races on the waters of the Severn River at Annapolis, Maryland. The event will consist of Navy crew rowing teams in competition with other crew rowing teams from other universities. In order to ensure the safety of participants, spectators and transiting vessels, 33 CFR 100.518 will be in effect for the duration of the event. Under provisions of 33 CFR 100.518, vessels may not enter the regulated area without permission from the Coast Guard Patrol Commander. Spectator vessels may anchor outside the regulated area but may not block a navigable channel. Because these restrictions will only be in effect for a limited period, they should not result in a significant disruption of maritime traffic.

Dated: April 11, 2000.
J.E. Shkor,
Vice Admiral, U.S. Coast Guard, Commander, Fifth Coast Guard District.

[FR Doc. 00-10846 Filed 5-1-00; 8:45 am]

BILLING CODE 4910-15-P